DEPARTMENT OF COMMERCE

National Oceanic and Atmospheric Administration

Mid-Atlantic Fishery Management Council (MAFMC); Public Meeting

Correction

Notice document 2015-13766 should have published in the issue of Friday, June 5, 2015. It is printed below in its entirety.

AGENCY: National Marine Fisheries Service (NMFS), National Oceanic and Atmospheric Administration (NOAA), Commerce.

ACTION: Notice of public meeting.

SUMMARY: The Mid-Atlantic Fishery Management Council's (Council) Atlantic Bluefish Advisory Panel will hold a public meeting.

DATES: The meeting will be held on June 25, 2015, from 9 a.m. until noon.

ADDRESSES: The meeting will be held via webinar with a telephone-only connection option. Details on webinar registration and telephone-only connection details are available at: http://www.mafmc.org.

Council address: Mid-Atlantic Fishery Management Council, 800 North State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The Mid-Atlantic Fisheries Management Council's (MAFMC) Atlantic Bluefish Advisory Panel (AP) will meet jointly with the Atlantic States Marine Fisheries Commission's (ASMFC) Atlantic Bluefish AP. The purpose of this meeting is to discuss recent performance of the commercial and recreational fisheries for Atlantic bluefish. Council staff will work with the AP to write the 2015 Fishery Performance Report. The intent of this report is to facilitate a venue for structured input from the AP members for the Atlantic Bluefish specifications process, including recommendations by the MAFMC's Scientific and Statistical Committee (SSC). The MAFMC and the ASMFC will consider the Fishery Performance Report in August when setting fishery specifications (i.e., catch and landings limits and management measures) for 2016-2018.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aid should be directed to M. Jan Saunders, (302) 526-5251, at least 5 days prior to the meeting date.

Dated: June 2, 2015.
Tracey L. Thompson,
Acting Deputy Director, Office of Sustainable Fisheries, National Marine Fisheries Service.

[FR Doc. C1-2015-13766 Filed 6-18-15; 8:45 am]

BILLING CODE 1505-01-D